NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by July 30, 2024, to be assured consideration. Comments received after that date will be considered to the extent practicable. Send comments to the address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: The Evaluation of the National Science Foundation's (NSF) Robert Noyce Teacher Scholarship Program.

OMB Number: 3145-NEW.

Expiration Date of Approval: Not applicable.

Type of Request: Intent to seek approval to establish an information collection for evaluating the NSF's Robert Noyce Teacher Scholarship Program.

Abstract: The National Science Foundation (NSF) has been committed to broadening participation of underrepresented groups and diverse institutions in science, technology, engineering, and math (STEM) through an array of means. One way that NSF supports this is through its Robert Noyce Teacher Scholarship Program (https://www.nsfnoyce.org) (Noyce Program), which was authorized in 2002 under the National Science Foundation Authorization Act of 2002 (Pub. L. 107-368) and reauthorized in 2007 under the America COMPETES Act (frwebgate.access.gpo.gov/cgi-bin/getdoc.cgi?dbname=110_cong_public_laws&docid=f:publ069.110.pdf) (Pub. L. 110-69). The program provides funding to higher education institutions via (a) scholarships, (b) stipends, and (c) other means of programmatic support to recruit and prepare science, technology, engineering, and mathematics (STEM) majors and other professionals to become K-12 STEM teachers.

The overall goal of the Noyce Program is to “increase the number of K-12 teachers with strong STEM content knowledge who teach in high-need school districts” (The Robert Noyce Teacher Scholarship Program (nsfnoyce.org)). Specifically, the Noyce Program's goals include aiding in establishing and facilitating the awarding of scholarships, fellowships, funding, and programming that help to recruit, train, and retain K-12 STEM teachers for high-need school districts. Additional Noyce Program goals include supporting research on K-12 STEM teachers in high-need school districts to understand patterns of teacher retention and effectiveness in these settings. Program objectives for the Noyce Teacher Scholarship Program include increasing the (i) number and (ii) diversity of students from groups underrepresented in STEM fields who pursue careers in K-12 STEM teaching, especially in high-need school districts.

The NSF STEM Education (EDU) Directorate requests the Office of Management and Budget (OMB) approval of this clearance to initiate new data collections to be conducted as part of an external evaluation of the Robert Noyce Teacher Scholarship Program. These collections, to be conducted by the evaluation contractor, include:

Demographic Questionnaire. A one-time, web-based survey of selected individuals who have been involved in various aspects of NSF's Robert Noyce Teacher Scholarship Program from FY2014 to FY2024 (i.e., PIs, program coordinators, faculty, scholars, fellows, alumni, K-12 school leaders, external evaluators) as well as representative individuals who are eligible for Noyce funding but have not received it. The purpose of this questionnaire is to (a) ensure that the participants recruited are diverse, and (b) support the qualitative data analytic approaches. Information about the respondents that will be captured within the questionnaire will include demographic data (e.g., race/ethnicity, gender), length of time with the institution, and experience with the Noyce Program (as applicable). The survey data will enable NSF to supplement the information gleaned from the interviews and focus groups, encouraging further understanding of what is working well and growth opportunities for the Noyce Program.

Interviews with Principal Investigators. Interviews with a purposive sample of up to 50 PIs or Co-PIs who had NSF's Robert Noyce Teacher Scholarship Program funded between FY2014 and FY2024. The interviews will be conducted either in-person during the annual Noyce Summit (in 2025) or using a virtual meeting platform at a time convenient for the respondents. The interviews will elicit information about how the Noyce Program can support the STEM teacher preparation field, the impact of the award, barriers and facilitators to applying for Noyce funding, and how changes to the solicitation over the past 10 years have impacted the perception of the Noyce award, as well as perceptions of the merit review process. This information will be triangulated with the other data collected as well as information from the review of documents to provide a holistic understanding of the context of the Noyce Program, what is working well, and growth opportunities.

Interviews with Eligible Individuals Who Have Not Received NSF's Robert Noyce Teacher Scholarship Program Funding. Interviews with a purposive sample of up to 20 representatives who are eligible for Noyce funding but have not received it. This sample includes individuals who have never applied for Noyce funding and those who have applied for but not received Noyce funding. The interviews will be conducted using a virtual meeting platform at a time convenient for the respondents, and will elicit information about how the Noyce Program can support the STEM teacher preparation field, the impact of the award, barriers and facilitators to applying for Noyce funding, and how changes to the solicitation over the past 10 years have impacted the perception of the Noyce award (as applicable to the representatives' roles).

Focus groups. A series of up to 115 focus groups are also planned, including program coordinators/program staff, faculty, scholars/fellows, alumni, high need K-12 school and district leaders, external evaluators, American Association for the Advancement of Science (AAAS) staff, and current and former NSF staff. This may include a total of up to 920 respondents. The focus groups will be conducted either in-person during the annual Noyce Summit (in 2025) or using a virtual meeting platform at a time convenient for the respondents, and will elicit information about how the Noyce Program can support the STEM teacher preparation field, the impact of the award, barriers and facilitators to applying for Noyce funding, and how changes to the solicitation over the past 10 years has impacted the perception of the Noyce award, as well as perceptions of the merit review process (as applicable to the representatives' roles).

This data collection is necessary to provide NSF with actionable information about the overall context of the Robert Noyce Teacher Scholarship Program, as well as to (a) understand overall perceptions of the Program from both Noyce and non-Noyce recipients, and (b) identify what is working well and opportunities for growth. This information will help support the overall goal of increasing the number and diversity of qualified teachers within the STEM education field. Further, the need is grounded in the importance and value of producing a diverse pool of STEM professionals who choose to pursue a career as a K-12 STEM teacher in a high-need school/school district.

Use of the Information: Aggregate results from the demographic questionnaire, interviews, and focus groups will be synthesized and summarized in reports developed by the evaluation contractor that will be provided to NSF. Although questionnaire, interview, and focus group responses will be identifiable to the contractor, the reports provided to NSF will only include overall results. No individual-level responses will be attributable to an individual respondent. Additionally, no information about individuals participating in the data collection activities will be released to anyone outside the contractor's organization. The data collected and reported on will be used for planning, management, and evaluation purposes only. These data are needed for effective administration, program monitoring, evaluation, and for strategic reviews and measuring attainment of NSF's program and strategic goals, as identified by the President's Accountable Government Initiative, the Government Performance and Results Act Modernization Act of 2010, Evidence-Based Policymaking Act of 2018, and NSF's Strategic Plan.

Expected Respondents: The respondents are Principal Investigators (PIs), representatives who are eligible for NSF's Robert Noyce Teacher Scholarship Program funding but have not received it, program coordinators/program staff, faculty, scholars/fellows, alumni, high need K-12 school and district leaders, external evaluators, American Association for the Advancement of Science (AAAS) staff, and current and former NSF staff. The demographic questionnaire respondents will include up to 50 PIs with Noyce awards between FY2014 to FY2024, up to 20 representatives who are eligible for NSF's Robert Noyce Teacher Scholarship Program funding but have not received it, up to 120 program coordinators/program staff, up to 240 faculty, up to 160 scholars/fellows, up to 128 alumni, up to 160 high need K-12 school and district leaders, and up to 80 external evaluators (approximately 958 total respondents). The interviews will include up to 50 PIs with NSF's Robert Noyce Teacher Scholarship Program awards between FY2014 to FY2024 and up to 20 representatives who are eligible for funding but have not received it, all of whom will also have completed the questionnaire (approximately 70 total). The focus groups will include up to 120 program coordinators/program staff, up to 240 faculty, up to 160 scholars/fellows, up to 128 alumni, up to 160 high need K-12 school and district leaders, and up to 80 external evaluators, all of whom will have also completed the questionnaire. Additionally, up to 3 AAAS staff and up to 24 current and former NSF staff are expected to participate in focus groups (approximately 985 total respondents).

Estimate of Burden

Estimates of Annualized Cost to Respondents for the Hour Burdens

The overall annualized cost to the respondents is estimated to be $106,264.67. The hourly wage estimates for completing the interviews mentioned in the burden hours table are based on information from the Bureau of Labor Statistics website (http://www.bls.gov) and average GS-15-Step 5 for the current POs (Pay & Leave: Salaries & Wages—OPM.gov). Specifically, the “May 2023 National Occupational Employment and Wage Estimates” were used. For Principal Investigators, faculty, external evaluators, and former NSF staff, 25-1000 “Postsecondary Teachers” was used (for this, the average hourly rate was calculated for a 9-month contract because an hourly rate was unavailable). For program coordinators, 25-9031 “Instructional Coordinators” was used; for representatives who are eligible for NSF's Robert Noyce Teacher Scholarship Program funding but have not received it, 11-9033 “Education Administrators, Postsecondary” was used; for Scholars/Fellows and Alumni, 25-2000 “Preschool, Elementary, Middle, Secondary, and Special Education Teachers” was used (for this, the average hourly rate was calculated for a 9-month contract because an hourly rate was unavailable); for K-12 School Leaders, 11-9032 “Education Administrators, Kindergarten through Secondary” was used (for this, the average hourly rate was calculated for a 9-month contract because an hourly rate was unavailable); and for AAAS staff, 19-0000 “Life, Physical and Social Science Occupations” was used.

BILLING CODE 7555-01-P

Estimated Number of Responses per Report

It is estimated that there will be up to 1943 responses: Up to 958 from the questionnaire, up to 70 from the interviews, and up to 915 for the focus groups from those directly or indirectly affiliated with institutions eligible to receive Noyce funding.

Dated: May 28, 2024.
Suzanne H. Plimpton,
Reports Clearance Officer, National Science Foundation.

[FR Doc. 2024-12021 Filed 5-30-24; 8:45 am]

BILLING CODE 7555-01-C